DEPARTMENT OF EDUCATION

[Docket No.: ED-2020-SCC-0143]

Agency Information Collection Activities; Submission to the Office of Management and Budget for Review and Approval; Comment Request; Study of Financial Aid Supports for GEAR UP Students

AGENCY: Institute of Educational Sciences (IES), Department of Education (ED).

ACTION: Notice.

SUMMARY: In accordance with the Paperwork Reduction Act of 1995, ED is proposing a new information collection.

DATES: Interested persons are invited to submit comments on or before March 12, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Daphne Garcia, 202-245-6592.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of Financial Aid Supports for GEAR UP Students.

OMB Control Number: 1850-NEW.

Type of Review: A new information collection.

Respondents/Affected Public: State, Tribal, and Local Governments Total Estimated Number of Annual Responses: 42.

Total Estimated Number of Annual Burden Hours: 95.

Abstract: This is a congressionally-mandated evaluation of the scholarship component of the Gaining Early Awareness and Readiness for Undergraduate Programs (GEAR UP) program. Established in the 1998 Higher Education Act (HEA), GEAR UP provides competitive, multi-year grants to states and local partnerships to prepare students attending high-poverty middle and high schools for college enrollment and success. State grantees must use at least half of their funds to provide college scholarships to GEAR UP students unless they receive a waiver from the U.S. Department of Education (ED).

How GEAR UP grantees provide scholarships to support students' enrollment and persistence in college is of interest for several reasons. First, this component distinguishes GEAR UP from other federal college access programs that serve primarily low-income students or those from high need schools. Second, the 2008 HEA reauthorization gave state grantees flexibility in how they implement and fund the scholarships. While program statute requires states to set aside at least half of their GEAR UP funds to provide scholarships (states that do are referred to as “set-aside states”), states may be granted a waiver to devote all of their GEAR UP funds to other activities (referred to as “waiver states”) if they can ensure that GEAR UP students have access to alternative scholarship funds—such as those that are state-funded. The reauthorization also changed other aspects of the scholarship component, such as the minimum amount and which students must be eligible to receive this financial aid.

Little information is available about how states are carrying out these requirements or the challenges they face in administering this part of the GEAR UP program. The data collection for this study will examine the scholarship practices of all states that received a GEAR UP grant since fiscal year 2011, the first year the scholarship changes went into effect. ED plans to use the study results to inform program improvement, both current efforts and in the future through the upcoming reauthorization of the HEA.

Dated: February 4, 2021.
Stephanie Valentine,
PRA Coordinator, Strategic Collections and Clearance Governance and Strategy Division, Office of Chief Data Officer, Office of Planning, Evaluation and Policy Development.

[FR Doc. 2021-02685 Filed 2-9-21; 8:45 am]

BILLING CODE 4000-01-P